FEDERAL ELECTION COMMISSION

Sunshine Act Meeting

Date & Time: Tuesday, January 7, 2003 at 10 a.m.

Place: 999 E Street, NW., Washington, DC.

Status: This meeting will be closed to the Public.

Items to be Discussed: Compliance matters pursuant to 2 U.S.C. 437g. Audits conducted pursuant to 2 U.S.C. 437g, 438(b), and Title 26, U.S.C. Matters concerning participation in civil actions or proceedings or arbitration. Internal personnel rules and procedures or matters affecting a particular employee.

Person to Contact For Information: Mr. Ron Harris, Press Officer, telephone: (202) 694-1220.

Darlene, Harris,
Secretary of the Commission.

[FR Doc. 02-33149 Filed 12-31-02; 8:45 am]

BILLING CODE 6715-01-M